CORPORATION FOR NATIONAL AND COMMUNITY SERVICE

Proposed Information Collection; Comment Request.

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. Sec. 3506(c)(2)(A)). This program helps to ensure that requested data can be provided in the desired format, reporting burden (time and financial resources) is minimized, collection instruments are clearly understood, and the impact of collection requirement on respondents can be properly assessed.

Currently, the Corporation is soliciting comments concerning its proposed renewal of its AmeriCorps*NCCC Team Leader Application, OMB Control Number 3045-0005. This form is used to collect information that will be used by AmeriCorps*NCCC staff in the evaluation and selection of Team Leaders.

Copies of the information collection requests can be obtained by contacting the office listed in the address section of this notice.

DATES: Written comments must be submitted to the individual and office listed in the ADDRESSES section by May 7, 2001.

ADDRESSES: Comments may be sent to the Corporation for National and Community Service, Attention: Mr. Philip Shaw, AmeriCorps*National Civilian Community Corps, 1201 New York Ave., NW., 9th Floor, Washington, DC 20525.

FOR FURTHER INFORMATION CONTACT: Philip Shaw, (202) 606-5000, ext. 476.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The Team Leader Application form is completed by applicants who wish to serve as Team Leaders at AmeriCorps*NCCC regional campuses.

Current Action

The Corporation seeks to renew and revise the current form. When revised, the form will include discussion concerning an additional application consideration period and will be used for the same purpose and in the same manner as the existing form. The Corporation also seeks to continue using the current form until the revised form is approved by OMB. The current form is due to expire on September 30, 2001.

Type of Review: Renewal.

Agency: Corporation for National and Community Service.

Title: AmeriCorps*NCCC Team Leader Application Form.

OMB Number: 3045-0005.

Agency Number: None.

Affected Public: Citizens of diverse ages and backgrounds who are committed to national service.

Total Respondents: 500.

Frequency: Bi-Annually.

Average Time Per Response: Two hours.

Estimated Total Burden Hours: 2,000 hours.

Total Burden Cost (capital/startup): None.

Total Burden Cost (operating/maintenance): None.

Comments submitted in response to this notice will be summarized and/or included in the request for Office of Management and Budget approval of the information collection request; they will also become a matter of public record.

Dated: February 28, 2001.
Fred Peters,
Acting Director, AmeriCorps*National Civilian Community Corps.

[FR Doc. 01-5313 Filed 3-5-01; 8:45 am]

BILLING CODE 6050-$$-P